ENVIRONMENTAL PROTECTION AGENCY

40 CFR Part 300

[EPA-HQ-SFUND-1990-0010; FRL-9932-37-Region 4]

National Oil and Hazardous Substances Pollution Contingency Plan; National Priorities List: Deletion of the Redwing Carriers, Inc. (Saraland)

AGENCY: Environmental Protection Agency (EPA).

ACTION: Direct final rule.

SUMMARY: The Environmental Protection Agency (EPA) Region 4 is publishing this direct final Notice of Deletion for the Redwing Carriers, Inc. (Saraland) Superfund Site (Site), located in Saraland, Mobile County, Alabama, from the National Priorities List (NPL). The NPL, promulgated pursuant to Section 105 of the Comprehensive Environmental Response, Compensation, and Liability Act (CERCLA) of 1980, as amended, is an appendix of the National Oil and Hazardous Substances Pollution Contingency Plan (NCP). This direct final deletion is being published by the EPA with the concurrence of the State of Alabama, through the Alabama Department of Environmental Management (ADEM), because the EPA has determined that all appropriate response actions under CERCLA have been completed. However, this deletion does not preclude future actions under Superfund.

DATES: This direct final deletion is effective September 28, 2015 unless the EPA receives adverse comments by September 14, 2015. If adverse comments are received, the EPA will publish a timely withdrawal of the direct final deletion in the Federal Register informing the public that the deletion will not take effect.

ADDRESSES: Submit your comments, identified by Docket ID No., EPA-HQ-SFUND-1990-0010, by one of the following methods:

• www.regulations.gov Follow the on-line instructions for submitting comments.

• Email: johnston.shelby@epa.gov

• Fax: (404) 562-8896, Attention: Shelby Johnston.

• Mail: Shelby Johnston, Remedial Project Manager, Superfund Restoration and Sustainability Branch, Superfund Division, U.S. Environmental Protection Agency, Region 4, 61 Forsyth Street, SW., Atlanta, Georgia 30303-8960.

• Hand Delivery: U.S. Environmental Protection Agency, Region 4, 61 Forsyth Street SW., Atlanta, Georgia 30303-8960. Such deliveries are only accepted during the Docket's normal hours of operation and special arrangements should be made for deliveries of boxed information.

Instructions: Direct your comments to Docket ID no. EPA-HQ-SFUND-1990-0010. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at: U.S. EPA Record Center, attn: Ms. Tina Terrell, Atlanta Federal Center, 61 Forsyth Street, SW., Atlanta, Georgia 30303-8960, Phone: (404) 562-8835, Hours 8 a.m.-4 p.m., Monday through Friday by appointment only; or, Saraland Public Library, 111 Saraland Loop, Saraland, AL 36571, Phone: 251-675-2879, Hours 10 a.m.-6 p.m., Monday, Wednesday, Friday, Saturday and 12 p.m.-8 p.m., Tuesday and Thursday.

FOR FURTHER INFORMATION CONTACT: Shelby Johnston, Remedial Project Manager, Superfund Restoration and Sustainability Branch, Superfund Division, U.S. Environmental Protection Agency, Region 4, 61 Forsyth Street, SW., Atlanta, Georgia 30303-8960, 404-562-8287, email: johnston.shelby@epa.gov.

SUPPLEMENTARY INFORMATION:

Table of Contents

I. Introduction

II. NPL Deletion Criteria

III. Deletion Procedures

IV. Basis for Site Deletion

V. Deletion Action

I. Introduction

The EPA Region 4 is publishing this direct final Notice of Deletion of the Redwing Carriers, Inc. (Saraland) Superfund Site from the NPL. The NPL constitutes Appendix B of 40 CFR part 300 which is the NCP, which the EPA promulgated pursuant to section 105 of the CERCLA of 1980, as amended. The EPA maintains the NPL as the list of sites that appear to present a significant risk to public health, welfare or the environment. Sites on the NPL may be the subject of remedial actions financed by the Hazardous Substance Superfund (Fund). As described in the Section 300.425(e)(3) of the NCP, sites deleted from the NPL remain eligible for Fund-financed remedial actions if future conditions warrant such actions.

Section II of this document explains the criteria to delete sites from the NPL. Section III discusses procedures that the EPA is using for this action. Section IV discusses the Site and demonstrates how it meets the deletion criteria. Section V discusses the EPA's action to delete the Site from the NPL unless adverse comments are received during the public comment period.

II. NPL Deletion Criteria

The NCP establishes the criteria that the EPA uses to delete sites from the NPL. In accordance with 40 CFR 300.425(e), sites may be deleted from the NPL where no further response is appropriate. In making such a determination pursuant to 40 CFR 300.425(e), the EPA will consider, in consultation with the State, whether any of the following criteria have been met:

i. responsible parties or other persons have implemented all appropriate response actions required;

ii. all appropriate Fund-financed response under CERCLA has been implemented, and no further response action by responsible parties is appropriate; or

iii. the remedial investigation has shown that the release poses no significant threat to public health or the environment, and, therefore, the taking of remedial measures is not appropriate.

III. Deletion Procedures

The following procedures apply to deletion of the Site:

(1) The EPA consulted with the State of Alabama prior to developing this direct final Notice of Deletion and the Notice of Intent to Delete co-published today in the “Proposed Rules” section of the Federal Register.

(2) The EPA has provided the state 30 working days for review of this notice and the parallel Notice of Intent to Delete prior to their publication today, and the state, through ADEM, has concurred on the deletion of the site from the NPL.

(3) Concurrently with the publication of this direct final Notice of Deletion, a notice of the availability of the parallel Notice of Intent to Delete is being published in a major local newspaper, The Mobile Press Register. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, the EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter the EPA's right to take enforcement actions, as appropriate. The NPL is designed primarily for informational purposes and to assist the EPA management. Section 300.425(e)(3) of the NCP states that the deletion of a site from the NPL does not preclude eligibility for future response actions, should future conditions warrant such actions.

IV. Basis for Site Deletion

The following information provides the EPA's rationale for deleting the Site from the NPL:

Site Background and History

Redwing Carriers, Inc. (Saraland) Superfund Site, (EPA ID: ALD980844385) is located at 527 U.S. Highway 43, Saraland, Mobile County, Alabama. The Site is 5.1 acres and bounded to the east by U.S. Highway 43 and a skating rink. To the north it is bounded by a United Gas Pipe Line easement and a mobile home community, to the south by a residential development, and to the west by an undeveloped lot. The Site was the former location of the Saraland Apartment Complex (Apartments) that has since been demolished to allow for the complete remediation of the Site. From 1961 to 1971, Redwing Carriers, Inc. (Redwing), a trucking company, owned and operated the Site as a terminal for cleaning, repairing and parking its fleet of trucks. The company transported a variety of substances, including asphalt, diesel fuel, chemicals and pesticides from local plants. Redwing discharged untreated hazardous substances to the ground during the cleaning of tanker trucks, creating a tar-like sludge and contaminating Site soils. The tar-like sludge was composed predominately of polycyclic aromatic hydrocarbon compounds together with lesser amounts of pesticides, herbicides and volatile organic compounds. These operations resulted in contamination of soils, groundwater and sediment.

In 1973, Saraland Apartments Ltd. purchased the Site and built a U.S. Housing and Urban Development (HUD) subsidized apartment complex on the Site. During construction, the sludge and contaminated soils were covered with up to 5 feet of clean soil. When completed, the complex consisted of 60 apartment units located in 12 buildings, and at one time housed approximately 160 residents, including 80 to 90 preschool-age or elementary school-age children.

In 1984, ADEM investigated apartment residents' complaints about the tar-like sludge seeping to the surface at numerous locations at the Site. In 1985, under Superfund removal authority, the EPA conducted initial studies in which high concentrations of 1, 2, 4-trichlorobenzene and naphthalene were detected in the soil and in leachate coming from the sludge. On July 8, 1985, the EPA and Redwing entered into a removal Administrative Order on Consent (AOC) that required Redwing to, among other things, conduct a limited sludge and contaminated soil removal action. Redwing was required to periodically inspect the Site and remove any visible sludge on the surface. The Site was proposed for the NPL on June 24, 1988 (53 FR 23988) and finalized on the NPL February 21, 1990 (55 FR 6154) due to the potential for consumption of contaminated groundwater.

Remedial Investigation, Feasibility Study (RI/FS)

On July 2, 1990, the EPA and Redwing entered into an AOC wherein Redwing agreed to conduct the Site RI/FS. Redwing, under the EPA's oversight, began field activities for the first phase of the remedial investigation in January 1991. The RI/FS was completed in July of 1992. During the investigation, 39 soil borings were collected with a total of 123 separate soil samples being analyzed. The substances found most frequently at concentrations above risk-based cleanup levels fall into three major categories: pesticides and herbicides; volatile organic compounds (VOCs) and Polycyclic Aromatic Hydrocarbons (PAHs). These substances were found in soils, ditch sediments, and groundwater across the Site. The highest levels of contamination were detected in the southern and eastern portions (the location of the former containment levee used by Redwing) and across areas of former terminal operations. Inorganic substances, which may occur in nature at significant levels, were also detected in soils, sludge, and groundwater. During this investigation, the EPA determined that the contaminants at the Site presented an unacceptable risk to human health by future groundwater consumption.

Selected Remedy

The EPA's Record of Decision (ROD) was signed on December 15, 1992, and the State of Alabama concurred with the selected remedy. The selected alternative included the following:

• Excavation of sludge, sediments, and contaminated soils.

• Off-site treatment/disposal of contaminated soils, sediments, and sludge at an approved disposal facility as determined appropriate by Resource Conservation and Recovery Act (RCRA) criteria and the waste sampling results from Toxicity Characterization Leaching Procedure (TCLP) testing.

• Regrading and backfill of excavations using clean, compacted-fill material.

• Temporary and possibly permanent relocation of residents with the potential demolition of selected apartment units.

• On-site treatment of contaminated groundwater in the surficial aquifer. Monitoring and possible withdrawal and treatment of groundwater in the alluvial aquifer. Treatment of groundwater for discharge to a Publicly Owned Treatment Works, or if unavailable, to a nearby surface water body.

While the ROD did not explicitly state Remedial Action Objectives (RAOs), the selected remedy was intended to address unacceptable risk presented by the Site, described in the risk assessment. The risk assessment summary for the Site indicated several areas of risk for mitigation as indicated below.

• Health risk posed at the Site is primarily from the future use of groundwater in both surficial and alluvial aquifers as a potable source.

• Surface soils and sediments are subject to contamination from continual leaching of contaminants from the sludge as it percolates to the surface.

The 1992 ROD was subsequently amended on June 14, 2000 with an Amended ROD (AROD). The RAOs for the Site remained unaltered but the major components of the amended remedy were as follows:

• Development of a phased approach to implement the amended remedy during the Remedial Design (RD).

• Demolition, removal, and off-site disposal to an approved facility of all buildings, foundations, concrete walkways, asphalt driveways and parking areas.

• Excavation, off-site treatment and disposal of the remaining source material (sludge, sediments and contaminated soils) at an approved disposal facility as determined appropriate by RCRA criteria and the waste sampling results from TCLP testing to aid in restoring and protecting groundwater quality.

• Reconstitution of the groundwater monitoring program at the Site after the backfilling and regrading of excavated areas had been completed.

• Postponement of the 1992 ROD requirement for on-site extraction and treatment of contaminated groundwater and compliance monitoring. Implementation was to be contingent upon the results of the baseline groundwater sampling and evaluation of the quarterly groundwater monitoring data. The groundwater response action would be revaluated to consider new groundwater monitoring data collected after the source removal action completion and determine whether or not the groundwater restoration could be achieved using Monitored Natural Attenuation (MNA).

Explanation of Significant Difference (ESD)

On September 25, 2007, the EPA issued an ESD for the Redwing Site. In the ESD, the EPA revised the 1992 ROD subsurface soil cleanup levels for Acetone, Aldrin, Alpha-BHC, and Dieldrin. The remedy at the Site is protective of human health and the environment because the surface soil, subsurface soil, sediment and groundwater at the Site met performance standards established in the ROD, AROD, and the ESD.

Response Actions

Redwing continued periodic removal of surface seeps until 1994, when they discontinued work at the Site. On July 5, 1995, the EPA issued a Unilateral Administrative Order (UAO) to Redwing and Saraland Apartments, Ltd. directing them to conduct a removal of tar seeps at the Site. When both parties declined to comply with the order, the EPA undertook the removal action. The removal action consisted of the removal and off-site disposal of 288 55-gallon drums of investigation derived waste, approximately 5 cubic yards of stockpiled soil and approximately 10 gallons of “tar like material” (TLM) from 13 tar seeps.

During the spring of 1996, the tar seeps returned, and on July 12, 1996, the EPA issued a UAO to Redwing and Saraland Apartments, Ltd. directing them to remove the source of the tar seeps. When both parties refused to comply with the order, the EPA conducted a removal action, which consisted of temporarily relocating 57 families living in the complex and excavating and transporting off-site for disposal approximately 20,724 tons of sludge, contaminated soil, and debris. These contaminated materials were transported as nonhazardous waste, after passing TCLP sampling analysis, to the Browning-Ferris Industries' Falcon Incinerator in Brewton, Alabama. Trucks were lined prior to filling to prevent further contamination and utilized fabric covers during transport to prevent soils from leaving the vehicle during transport. Once received at the disposal site, the materials were emptied into a covered shed to await thermal treatment in the primary incinerator with a minimum temperature of 700 °F. After the removal was completed, air monitoring conducted in the Apartments detected unacceptable levels of benzene and the pesticide, Aldrin, in some of the Apartments. Based on this monitoring, the EPA determined that the residents could not return to live in the Apartments. Working together, the EPA and HUD relocated the residents to comparable permanent housing.

In July 1997, the EPA collected soil, sediment and water samples from 23 properties adjacent to the Redwing Site. The purpose of this sampling was to address community concerns about possible releases from the Site. Based on a risk evaluation of the analytical results of these samples, the EPA determined that there is no unacceptable health risk or hazard in the neighborhood adjacent to the Site.

Remedy Implementation

The Redwing PRP conducted the remedial action pursuant to the February 26, 2002 RD/Remedial Action (RA) Consent Decree. Site demolition activities started in March 2004 and were completed in June 2004. During the demolition, 5,700 cubic yards of demolition debris was transported off-site for disposal and 3,915 cubic yards of asphalt and concrete were transported off-site for recycling. All debris was visually inspected and any debris found with visually questionable materials were sampled prior to transport to ensure that none of the debris failed RCRA criteria and waste sampling results from TCLP testing. None of the construction debris failed RCRA criteria and waste sampling results from TCLP, and as a result, all debris was transported to Jarrett Rd. Landfill in Pritchard, Alabama, a RCRA permitted construction debris facility, as required by the ROD.

The EPA approved the Final RD Report on June 28, 2007. The Site RA started in mid-December 2007 and was completed in June 2008. The excavation of TLM-contaminated soil was executed by the removal of blocks of soil to predetermined depths based on analytical results from the pre-design investigation. Additional TLM-contaminated soil was removed laterally based on visual inspection and presence on excavated sidewalls. Additional soil was excavated from the bottom of pre-determined excavation block depths based on confirmation analysis. Specifically, five-point composite samples were collected at the bottom of each excavation block and analyzed for the contaminants of concern (COC) established in the ROD. If the concentration of any constituent resulted in an exceedance of the 90% Upper Confidence Limit (UCL) average concentration for the Site, then additional soil was excavated and the deeper block bottom was again sampled.

The large majority of the soils excavated from the site contained TLM and were thus removed from the Site based on that criterion. The removal of the TLM-contaminated soils resulted in the need to only remove a small amount of additional soils to meet the 90% UCL average concentration requirement for soil constituent impacts. It should be noted that carbon tetrachloride, while retained as a COC for remediation, was only found in a single surface soil sample location, which was removed during the first removal action. The COC was retained due to the risk posed for ingestion and dermal contact. The subsurface excavation pits were not sampled for carbon tetrachloride since the risk posed was related to the surface soils which had already been removed.

During the RA, a total of 25,114 cubic yards of soil was excavated. Of this amount, approximately 21,375 cubic yards were sampled to assess for TCLP and subsequently transported off-site for disposal at Macland Disposal Center in Moss Point, Mississippi, a RCRA permitted non-hazardous waste facility, as no materials failed TCLP. The remaining soil that lacked visual signs for TLM and passed confirmation sampling, was mixed together with clean fill brought in from off-site and was used to backfill and regrade excavated areas of the Site. After regrading and seeding activities were completed, six monitoring wells were installed on-site and groundwater samples were collected in September 2008 and December 2008. The sampling detected Vernolate in one monitoring well (MW-16) at a concentration above the ROD groundwater cleanup level. The monitoring wells were resampled in March 2009, and Vernolate was again detected in MW-16 while none of the other groundwater monitoring wells were found to contain any ROD COC above their respective cleanup goals. In response to the 2008-2009 groundwater sampling, three monitoring wells were installed on adjacent property in early April 2009 to determine if contaminated groundwater had migrated off-site. No contamination was detected in these wells during the sampling event.

The June 14, 2000 AROD delayed the implementation of the 1992 ROD requirement for groundwater extraction and treatment to allow for evaluation of the groundwater monitoring data that would be collected after the source removal action completion. During this evaluation, degradation rates for each of the groundwater contaminants of concern were determined along with a prediction of future decreases in contaminant. After this evaluation, it was determined that further groundwater remediation would not be required since it was anticipated that the groundwater cleanup levels would be achieved within a short time frame as a result of natural attenuation after the removal of the source material. The EPA approved the Final RA Report dated July 2014 in September 2014.

Cleanup Goals

Long-term, post-remediation groundwater monitoring was initiated after the completion of the RA in 2008 and was ongoing until late 2012. This monitoring program began with the installation of six new monitoring wells (MW-14, MW-15, MW-16, MW-17, MW-18 and MW- 19) on-site and included two monitoring wells that existed prior to the remediation (MW-12U and MW-13U). These eight wells were sampled in September 2008, December 2008 and March 2009 for the following constituents: Sulfate, Chloride, Beryllium (total and dissolved), Total Chromium (total and dissolved), Nickel (total and dissolved), Vanadium (total and dissolved), Total Organic Carbon, Methylene Chloride, Acetone, Carbon Disulfide, Chloroform, Bis(2-ethylhexyl)phthalate, Vernolate, Lindane, Alpha-BHC, 4,4-DDT, Dieldrin and Aldrin. Only a few minor exceedances of the ROD cleanup goals were observed with the exception of Vernolate in MW-16.

During the March 2009 sampling event, it was determined by the EPA that the groundwater cleanup goals had been met for all COCs with the exception of Vernolate. Due to the persistent exceedances of Vernolate in MW-16, three additional monitoring wells were installed off-site (MWOS-01, MWOS-02 and MWOS-03). Some members of the community were concerned with the proximity of MW-16 to the property line. All monitoring wells except MW-16 and the three off-site monitoring wells were abandoned in 2010. Monitoring continued on these three off-site wells and on-site MW-16 for Vernolate until the groundwater cleanup level was achieved in MW-16. No Vernolate was ever detected in the off-site monitoring wells.

From September 2009 to August 2012, groundwater samples were collected quarterly from MW-16 and the three off-site monitoring wells. After reviewing the results of the Vernolate groundwater sampling, ADEM and the EPA determined that the cleanup goals specified in the 1992 ROD, 2000 AROD and 2007 ESD had been met and abandonment of the remaining monitoring wells for the Site was approved.

Five-Year Reviews

The first five-year review (FYR) was completed on September 25, 2014. This review concluded that the selected remedy remains protective of human health and the environment pursuant to CERCLA section 121(c), 42 U.S.C. 9601 et seq. Per the EPA's 2001 FYR guidance, “Five-year reviews may no longer be needed when no hazardous substances, pollutants or contaminants remain on-site above levels that allow for unlimited use or unrestricted exposure” (UU/UE). Since the Site is UU/UE and has met the requirements established by the ROD, it is not necessary to conduct another FYR. The EPA has a policy that at least one FYR must be conducted after initiation of remedial action at the Site to ensure that the remedy is protective of human health and the environment. This policy FYR was conducted in 2014, and it concluded that the selected remedy at the Site is protective of human health and the environment because the surface soil, subsurface soil, sediment and groundwater at the Site met performance standards established in the 1992 ROD, subsequent 2000 AROD and subsequent 2007 ESD. The policy requirement for the five-year review has been met, and accordingly, the Site FYR requirement has been discontinued.

Community Involvement

Throughout the removal and remedial process, the EPA has kept the public informed of the activities being conducted at the Site by way of public meetings, progress fact sheets, and the announcement through local newspaper advertisement on the availability of documents such as the RI/FS, Risk Assessment, ROD, Proposed Plan, AROD, ESD and FYRs.

Public participation activities have been satisfied as required in CERCLA Section 113(k), 42 U.S.C. 9613(k) and CERCLA Section 117, 42 U.S.C. 9617. Documents in the deletion docket, which the EPA relied on for recommendation of the deletion from the NPL, are available to the public in the information repositories identified above.

Determination That the Site Meets the Criteria for Deletion From the NCP

This Site meets all the site completion requirements as specified in Office of Solid Waste and Emergency Response (OSWER) Directive 9320.22, Close-Out Procedures for National Priorities List Sites. Specifically, confirmatory soil and groundwater sampling verifies that the Site has achieved the ROD cleanup standards, and that all cleanup actions specified in the ROD, AROD and ESD have been implemented.

V. Deletion Action

The EPA, with concurrence of the State of Alabama through ADEM, has determined that all appropriate response actions under CERCLA have been completed. Therefore, the EPA is deleting the Site from the NPL.

Because the EPA considers this action to be noncontroversial and routine, the EPA is taking it without prior publication. This action will be effective September 28, 2015 unless the EPA receives adverse comments by September 14, 2015. If adverse comments are received within the 30-day public comment period, the EPA will publish a timely withdrawal of this direct final notice of deletion before the effective date of the deletion, and it will not take effect. The EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: August 3, 2015.
Heather McTeer Toney,
Regional Administrator, Region 4.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

APPENDIX B TO PART 300 [AMENDED]

2. Table 1 of Appendix B to part 300 is amended by removing “Al”, “Redwing Carriers, Inc. (Saraland)”, “Saraland”.

[FR Doc. 2015-20017 Filed 8-13-15; 8:45 am]

BILLING CODE 6560-50-P